FEDERAL COMMUNICATIONS COMMISSION

[CC Docket No. 92-237; DA 18-321]

April and May Meetings of the North American Numbering Council

AGENCY: Federal Communications Commission.

ACTION: Notice.

SUMMARY: In this document, the Commission released a public notice announcing the April and May meetings of the North American Numbering Council (NANC). At the April meeting, which will be conducted by conference call, the NANC will consider a recommendation from its Call Authentication Trust Anchor Issues Working Group. At the May meeting, the NANC will consider recommendations from the Toll Free Numbering Modernization Issues Working Group and the Nationwide Number Portability Issues Working Group. In addition, the NANC will continue its discussions on how to modernize and foster more efficient number administration in the United States. The NANC meetings are open to the public. The FCC will accommodate as many attendees as possible; however, admittance will be limited to seating availability. The Commission will also provide audio coverage of the meeting. Other reasonable accommodations for people with disabilities are available upon request. Request for such accommodations should be submitted via email to fcc504@fcc.gov or by calling the Consumer and governmental Affairs Bureau @(202) 418-0530 (voice) (202) 418-0432 (TTY). Such requests should include a detailed description of the accommodation needed. In addition, please allow at least five days advance notice for accommodation requests; last minute requests will be accepted but may not be possible to accommodate.

Members of the public may submit comments to the NANC in the FCC's Electronic Comment Filing System, ECFS, at www.fcc.gov/ecfs. Comments to the NANC should be filed in cc Docket No. 92-237.

More information about the NANC is available at https://www.fcc.gov/about-fcc/advisory-committees/general/north-american-numbering-council. You may also contact Marilyn Jones, DFO of the NANC, at Marilyn.jones@fcc.gov, or (202) 418-2357, Michelle Sclater, Alternate DFO, at michelle.sclater@fcc.gov, or (202) 418- 0388; or Carmell Weathers, special assistant to the DFO, at carmell.weathers@fcc.gov, or (202) 418-2325.

DATES: Friday, April 27, 2018, 9:30 a.m. and May 23, 2018, 9:30 a.m.

ADDRESSES: Requests to make an oral statement or provide written comments to the NANC should be sent to Carmell Weathers, Competition Policy Division, Wireline Competition Bureau, Federal Communications Commission, Portals II, 445 12th Street SW, Room 5-C162, Washington, DC 20554.

FOR FURTHER INFORMATION CONTACT: Carmell Weathers at (202) 418-2325 or Carmell.Weathers@fcc.gov. The fax number is: (202) 418-1413. The TTY number is: (202) 418-0484.

SUPPLEMENTARY INFORMATION: This is a summary of the Commission's document in CC Docket No. 92-237, DA 18-327 released March 30, 2018. The complete text in this document is available for public inspection and copying during normal business hours in the FCC Reference Information Center, Portals II, 445 12th Street SW, Room CY-A257, Washington, DC 20554. The document may also be purchased from the Commission's duplicating contractor, Best Copy and Printing, Inc., 445 12th Street SW, Room CY-B402, Washington, DC 20554, telephone (800) 378-3160 or (202) 863-2893, facsimile (202) 863-2898, or via the internet at http://www.bcpiweb.com. It is available on the Commission's website at http://www.fcc.gov.

*The Agenda may be modified at the discretion of the NANC Chairman with the approval of the Designated Federal Officer (DFO).

Federal Communications Commission.
Marilyn Jones,
Senior Counsel for Number Administration, Wireline Competition Bureau.

[FR Doc. 2018-07386 Filed 4-10-18; 8:45 am]

BILLING CODE 6712-01-P